ENVIRONMENTAL PROTECTION AGENCY

40 CFR Part 52

[EPA-R01-OAR-2015-0527; A-1-FRL-9935-32-Region1]

Air Plan Approval; Maine; General Permit Regulations for Nonmetallic Mineral Processing Plants and Concrete Batch Plants

AGENCY: Environmental Protection Agency.

ACTION: Proposed rule.

SUMMARY: The Environmental Protection Agency (EPA) is proposing to approve State Implementation Plan (SIP) revisions submitted by the State of Maine. This revision establishes and requires general permit regulations for minor nonmetallic mineral processing plants and concrete batch plants. The regulations provide an option for new sources of air emissions to comply with the State's minor new source review (NSR) rules. The intended effect of this action is to approve general permit regulations for minor nonmetallic mineral processing plants and concrete batch plants. This action is being taken in accordance with section 110 the Clean Air Act.

DATES: Written comments must be received on or before November 9, 2015.

ADDRESSES: Submit your comments, identified by Docket ID No. EPA-R01-OAR-2015-0527 by one of the following methods:

1. www.regulations.gov: Follow the on-line instructions for submitting comments.

2. Email: mcdonnell.ida@epa.gov.

3. Fax: (617) 918-0653.

4. Mail: “EPA-R01-OAR-2015-0527”, Ida E. McDonnell, U.S. Environmental Protection Agency, EPA New England Regional Office, Office of Ecosystem Protection, Air Permits, Toxics and Indoor Programs Unit, 5 Post Office Square—Suite 100, (Mail code OEP05-2), Boston, MA 02109-3912.

5. Hand Delivery or Courier. Deliver your comments to: Ida E. McDonnell, Manager, Air Permits, Toxics, and Indoor Programs Unit, Office of Ecosystem Protection, U.S. Environmental Protection Agency, EPA New England Regional Office, 5 Post Office Square—Suite 100, (Mail code OEP05-2), Boston, MA 02109-3912. Such deliveries are only accepted during the Regional Office's normal hours of operation. The Regional Office's official hours of business are Monday through Friday, 8:30 a.m. to 4:30 p.m., excluding legal holidays.

Please see the direct final rule which is located in the Rules Section of this Federal Register for detailed instructions on how to submit comments.

FOR FURTHER INFORMATION CONTACT: Susan Lancey, Office of Ecosystem Protection, 5 Post Office Square, Suite 100 (OEP05-2), telephone number (617) 918-1656, fax number (617) 918-0656, email lancey.susan@epa.gov

SUPPLEMENTARY INFORMATION: In the Final Rules Section of this Federal Register, EPA is approving the State's SIP submittals as a direct final rule without prior proposal because the Agency views this as a noncontroversial submittal and anticipates no adverse comments. A detailed rationale for the approval is set forth in the direct final rule. If no adverse comments are received in response to this action rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of either or both of Maine's regulations as part of this rule and if that provision or provisions may be severed from the remainder of the State's regulations and this rule, EPA may adopt as final those provisions of the rule that are not the subject of an adverse comment.

For additional information, see the direct final rule which is located in the Rules Section of this Federal Register.

Dated: September 21, 2015.
H. Curtis Spalding,
Regional Administrator, EPA New England.

[FR Doc. 2015-25438 Filed 10-8-15; 8:45 am]

BILLING CODE 6560-50-P